DEPARTMENT OF COMMERCE

Foreign-Trade Zones Board

[B-07-2019]

Foreign-Trade Zone (FTZ) 238—Dublin, Virginia; Authorization of Limited Production Activity; EBI, LLC (Mattresses and Sofas), Danville, Virginia

On April 1, 2019, the New River Valley Economic Development Alliance, grantee of FTZ 238, submitted a notification of proposed production activity to the FTZ Board on behalf of EBI, LLC, within Subzone 238C, in Danville, Virginia.

The notification was processed in accordance with the regulations of the FTZ Board (15 CFR part 400), including notice in the Federal Register inviting public comment (84 FR 13632, April 5, 2019). On July 29, 2019, the applicant was notified of the FTZ Board's decision that further review of part of the proposed activity is warranted. The FTZ Board authorized the production activity described in the notification on a limited basis, subject to the FTZ Act and the Board's regulations, including Section 400.14, and further subject to a restriction requiring the following foreign status components be admitted to the zone in privileged foreign status (19 CFR 146.41): (1) High resilience polyurethane foam; (2) polyamide/polyethylene sofa cushion bags; (3) non-woven polyester fiber wadding for cushion covers; (4) felt (100% polyester), not impregnated, coated, covered, or laminated; (5) mattress handles (fastener fabric tape), woven, of synthetic fibers; (6) cushion covers (polyester fiber wadding); (7) woven mattress covers of cotton; (8) woven mattress covers of synthetic fibers; (9) non-woven polypropylene dust covers for mattresses; (10) non-woven polypropylene bags; (11) completed mattress covers, made of cotton; and, (12) upholstered foam seat cushions.

Dated: July 29, 2019.
Elizabeth Whiteman,
Acting Executive Secretary.

[FR Doc. 2019-16416 Filed 7-31-19; 8:45 am]

BILLING CODE 3510-DS-P